DEPARTMENT OF TRANSPORTATION

Federal Aviation Administration

14 CFR Part 39

[Docket No. FAA-2024-0771; Project Identifier AD-2023-01251-E; Amendment 39-22720; AD 2024-06-15]

RIN 2120-AA64

Airworthiness Directives; General Electric Company Engines

AGENCY: Federal Aviation Administration (FAA), DOT.

ACTION: Final rule; request for comments; correction.

SUMMARY: The FAA is correcting an airworthiness directive (AD) that published in the Federal Register. That AD applies to certain General Electric Company (GE) Model GE90-110B1 and GE90-115B engines. As published, references to the service information include a typographical error in the regulatory text of the AD. This document corrects that error in all references. In all other respects, the original document remains the same.

DATES: This correction is effective May 14, 2024. The effective date of AD 2024-06-15 remains May 14, 2024. The date for submitting comments remains June 13, 2024.

The Director of the Federal Register approved the incorporation by reference of a certain publication listed in this AD as of May 14, 2024 (89 FR 33215, April 29, 2024).

ADDRESSES:

AD Docket: You may examine the AD docket at regulations.gov under Docket No. FAA-2024-0771, or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For service information identified in this final rule, contact General Electric Company, 1 Neumann Way, Cincinnati, OH 45215; phone: (513) 552-3272; email: aviation.fleetsupport@ae.ge.com; website: ge.com.

• You may view this service information at the FAA, Airworthiness Products Section, Operational Safety Branch, 1200 District Avenue, Burlington, MA 01803. For information on the availability of this material at the FAA, call (817) 222-5110. It is also available at regulations.gov under Docket No. FAA-2024-0771.

FOR FURTHER INFORMATION CONTACT: Alexander Thickstun, Aviation Safety Engineer, FAA, 2200 South 216th Street, Des Moines, WA 98198; phone: (202) 267-8292; email: alexander.m.thickstun@faa.gov.

SUPPLEMENTARY INFORMATION:

Comments Invited

The FAA invites you to send any written data, views, or arguments about this final rule. Send your comments to an address listed under ADDRESSES. Include “FAA-2024-0771; Project Identifier AD-2023-01251-E” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Alexander Thickstun, Aviation Safety Engineer, FAA, 2200 South 216th Street, Des Moines, WA 98198. Any commentary that the FAA receives which is not specifically designated as CBI will be placed in the public docket for this rulemaking.

Background

AD 2024-06-15, Amendment 39-22720 (89 FR 33215, April 29, 2024), requires repetitive ultrasonic inspections (USIs) of the interstage high-pressure turbine (HPT) rotor seal for cracks and removal from service if necessary. As a mandatory terminating action to the repetitive USIs of the interstage HPT rotor seal, this AD requires replacement of the interstage HPT rotor seal.

Need for Correction

As published, paragraphs (c), (g)(1), (g)(1)(i) and (ii), and (g)(2) in the regulatory text of AD 2024-06-15 are incorrect. These paragraphs refer to the service information as “GE GE90-100 Service Bulletin (SB) 72-A0908 R00, dated July 7, 2023” and “GE SB 72-A0908.” The correct service information is “GE GE90-100 Service Bulletin (SB) 72-0908 R00, dated July 7, 2023” and “GE SB 72-0908.”

Related Service Information Under 1 CFR Part 51

The FAA reviewed GE GE90-100 Service Bulletin (SB) 72-0908 R00, dated July 7, 2023, which specifies procedures for performing a USI of the interstage HPT rotor seal. This service information is reasonably available because the interested parties have access to it through their normal course of business or by the means identified in ADDRESSES.

Correction of Publication

This document corrects an error and correctly adds the AD as an amendment to 14 CFR 39.13. Although no other part of the preamble or regulatory information has been corrected, the FAA is publishing the entire rule in the Federal Register.

The effective date of this AD remains May 14, 2024.

Since this action only corrects a typographical error in the references to the service information, it has no adverse economic impact and imposes no additional burden on any person. Therefore, the FAA has determined that prior notice and public comment procedures are unnecessary.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following airworthiness directive:

2024-06-15 General Electric Company: Amendment 39-22720; Docket No. FAA-2024-0771; Project Identifier AD-2023-01251-E.

(a) Effective Date

This airworthiness directive (AD) is effective May 14, 2024.

(b) Affected ADs

None.

(c) Applicability

This AD applies to General Electric Company (GE) Model GE90-110B1 and GE90-115B engines with an installed interstage high-pressure turbine (HPT) rotor seal having a part number and serial number listed in Table 1 or Table 2 of GE GE90-100 Service Bulletin (SB) 72-0908 R00, dated July 7, 2023 (GE SB 72-0908).

(d) Subject

Joint Aircraft System Component (JASC) Code 7250, Turbine Section.

(e) Unsafe Condition

This AD was prompted by a report of an aborted takeoff due to left engine failure caused by liberation of the interstage HPT rotor seal rim. The FAA is issuing this AD to prevent failure of the HPT. The unsafe condition, if not addressed, could result in uncontained HPT failure, release of high-energy debris, damage to the engine, damage to the airplane, and possible loss of the airplane.

(f) Compliance

Comply with this AD within the compliance times specified, unless already done.

(g) Required Actions

(1) Perform an ultrasonic inspection (USI) of the interstage HPT rotor seal in accordance with the Accomplishment Instructions, paragraph 3.B.(2), of GE SB 72-0908, as follows:

(i) Perform an initial USI before reaching the part cycles since new limit listed in Table 1 or Table 2, as applicable, of GE SB 72-0908, or within 10 flight cycles after the effective date of this AD, whichever occurs later; and

(ii) Repeat the USI thereafter within every 100 cycles or 175 cycles, as applicable, as listed in Table 1 or Table 2 of GE SB 72-0908, since the last inspection.

(2) If, during any USI required by paragraph (g)(1)(i) or (ii) of this AD, a non-serviceable indication is found, as defined in paragraph 3.B.(2)(b) of GE SB 72-0908, before further flight, remove the interstage HPT rotor seal from service.

(h) Mandatory Terminating Action

As a terminating action to the repetitive USI required by paragraph (g)(1)(i) or (ii) of this AD, at the next engine shop visit after the effective date of this AD, remove the affected interstage HPT rotor seal from service.

(i) Definition

For the purpose of this AD, an “engine shop visit” is the induction of an engine into the shop for maintenance involving the separation of pairs of major mating engine case flanges, except separation of engine flanges solely for the purposes of transportation of the engine without subsequent maintenance, which does not constitute an engine shop visit.

(j) Alternative Methods of Compliance (AMOCs)

(1) The Manager, AIR-520 Continued Operational Safety Branch, FAA, has the authority to approve AMOCs for this AD, if requested using the procedures found in 14 CFR 39.19. In accordance with 14 CFR 39.19, send your request to your principal inspector or local Flight Standards District Office, as appropriate. If sending information directly to the manager of the AIR-520 Continued Operational Safety Branch, send it to the attention of the person identified in paragraph (k) of this AD and email to: ANE-AD-AMOC@faa.gov.

(2) Before using any approved AMOC, notify your appropriate principal inspector, or lacking a principal inspector, the manager of the local flight standards district office/certificate holding district office.

(k) Additional Information

For more information about this AD, contact Alexander Thickstun, Aviation Safety Engineer, FAA, 2200 South 216th Street, Des Moines, WA 98198; phone: (202) 267-8292; email: alexander.m.thickstun@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) General Electric Company GE90-100 Service Bulletin 72-0908 R00, dated July 7, 2023.

(ii) [Reserved]

(3) For service information identified in this AD, contact General Electric Company, 1 Newman Way, Cincinnati, OH 45215; phone: (513) 552-3272; email: aviation.fleetsupport@ae.ge.com; website: ge.com.

(4) You may view this service information at the FAA, Airworthiness Products Section, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on May 2, 2024.
Victor Wicklund,
Deputy Director, Compliance & Airworthiness Division, Aircraft Certification Service.

[FR Doc. 2024-10093 Filed 5-6-24; 11:15 am]

BILLING CODE 4910-13-P